DEPARTMENT OF THE INTERIOR

Fish and Wildlife Service

[FWS-R9-FHC-2011-N266; FXHC11220900000Z2-112-FF09F20000]

Proposed Information Collection; Land-Based Wind Energy Guidelines

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This information collection is scheduled to expire on September 30, 2012. We may not conduct or sponsor and a person is not required to respond to a collection of information unless it displays a currently valid OMB control number. However, under OMB regulations, we may continue to conduct or sponsor this information collection while it is pending at OMB.

DATES: To ensure that we are able to consider your comments on this IC, we must receive them by June 1, 2012.

ADDRESSES: Send your comments on the IC to the Service Information Collection Clearance Officer, Fish and Wildlife Service, MS 2042-PDM, 4401 North Fairfax Drive, Arlington, VA 22203 (mail); or INFOCOL@fws.gov (email). Please include “1018-0148” in the subject line of your comments.

FOR FURTHER INFORMATION CONTACT: To request additional information about this IC, contact Hope Grey at INFOCOL@fws.gov (email) or 703-358-2482 (telephone).

SUPPLEMENTARY INFORMATION:

I. Abstract

In January 2012, we requested that OMB approve, on an emergency basis, our request to collect information associated with the Land-Based Wind Energy Guidelines (Guidelines). We asked for emergency approval because of the potential negative effects that proposed wind energy facilities may have on wildlife and their habitat. OMB approved our request and assigned OMB Control No. 1018-0148, which expires September 30, 2012. We are going to ask OMB to extend the approval for this information collection for 3 years.

As wind energy production increased, both developers and wildlife agencies recognized the need for a system to evaluate and address the potential negative impacts of wind energy projects on species of concern. These voluntary Guidelines (http://www.fws.gov/windenergy) provide a structured, scientific process for addressing wildlife conservation concerns at all stages of land-based wind energy development. They also promote effective communication among wind energy developers and Federal, State, tribal, and local conservation agencies. When used in concert with appropriate regulatory tools, the Guidelines will be the best practical approach for conserving species of concern.

The Guidelines discuss various risks to “species of concern” from wind energy projects, including collisions with wind turbines and associated infrastructure; loss and degradation of habitat from turbines and infrastructure; fragmentation of large habitat blocks into smaller segments that may not support sensitive species; displacement and behavioral changes; and indirect effects such as increased predator populations or introduction of invasive plants. The Guidelines assist developers in identifying species of concern that may potentially be affected by proposed projects, including, but not limited to:

• Migratory birds;

• Bats;

• Bald and golden eagles and other birds of prey;

• Prairie and sage grouse; and

• Listed, proposed, or candidate endangered and threatened species.

The Guidelines follow a tiered approach. The wind energy developer begins at Tier 1 or Tier 2, which entails gathering of existing data to help identify any potential risks to wildlife and their habitats at proposed wind energy project sites. The developer then proceeds through subsequent tiers, as appropriate, to collect information in increasing detail until the level of risk is adequately ascertained and a decision on whether or not to develop the site can be made. Many projects may not proceed beyond Tiers 1 or 2, when developers become aware of potential barriers, including high risks to wildlife. Developers would only have an interest in adhering to the Guidelines for those projects that proceed beyond Tiers 1 and 2.

At each tier level, wind energy developers and operators should retain documentation to provide to the Service. Such documentation may include copies of correspondence with the Service, results of pre- and post-construction studies conducted at project sites, bird and bat conservation strategies, or any other record that supports a developer's adherence to the Guidelines. The extent of the documentation will depend on the conditions of the site being developed. Sites with greater risk of impacts to wildlife and habitats will likely involve more extensive communication with the Service and longer durations of pre- and post-construction studies than sites with little risk.

Distributed or community-scale wind energy projects are unlikely to have significant adverse impacts to wildlife and their habitats. The Guidelines recommend that developers of these small-scale projects do the desktop analysis described in Tier 1 or Tier 2 using publicly available information to determine whether they should communicate with the Service. Since such project designs usually include a single turbine associated with existing development, conducting a Tier 1 or Tier 2 analysis for distributed or community-scale wind energy projects should incur limited nonhour burden costs. These analyses are conducted using readily available existing information, so the nature of these costs may include travel to project sites. For such projects, if there is no potential risk identified, a developer will have no need to communicate with the Service regarding the project or to conduct studies described in Tiers 3, 4, and 5.

Adherence to the Guidelines is voluntary. Following the Guidelines does not relieve any individual, company, or agency of the responsibility to comply with applicable laws and regulations. Developers of wind energy projects have a responsibility to comply with the law; for example, they must obtain incidental take authorization for species protected by the Endangered Species Act (ESA) and/or Bald and Golden Eagle Protection Act (BGEPA).

II. Data

OMB Control Number: 1018-0148.

Title: Land-Based Wind Energy Guidelines.

Service Form Number: None.

Type of Request: Extension of a currently approved collection.

Description of Respondents: Developers and operators of wind energy facilities.

Respondent's Obligation: Voluntary.

Frequency of Collection: On occasion.

ACTIVITY (reporting and recordkeeping) | NUMBER of respondents | NUMBER of responses | COMPLETION time per response | TOTAL annual burden hours | NONHOUR burden cost per response | TOTAL annual nonhour burden cost
Tier 1 (Desktop Analysis) | 150 | 150 | 83 | 12,450 | $2,000 | $300,000
Tier 2 (Site Characterization) | 110 | 110 | 375 | 41,250 | $4,000 | $440,000
Tier 3 (Pre-construction studies) | 80 | 80 | 2,880 | 230,400 | $23,000 | $1,840,000
Tier 4 (Post-construction fatality monitoring and habitat studies) | 50 | 50 | 2,550 | 127,500 | $95,000 | $4,750,000
Tier 5 (Other post-construction studies | 10 | 10 | 2,400 | 24,000 | $191,000 | $1,910,000
TOTALS | 400 | 400 |  | 435,600 |  | $9,240,000

Estimated Annual Nonhour Burden Cost: $9,240,000. Costs will depend on the size and complexity of issues associated with each project. These expenses may include, but are not limited to: Travel expenses for site visits, studies conducted, and meetings with the Service and other Federal and State agencies; training in survey methodologies; data management; special transportation such as all-terrain vehicle or helicopter; equipment needed for acoustic, telemetry, or radar monitoring, and carcass storage.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: March 26, 2012.
Tina A.Campbell,
Chief, Division of Policy and Directives Management, U.S. Fish and Wildlife Service.

[FR Doc. 2012-7840 Filed 3-30-12; 8:45 am]

BILLING CODE 4310-55-P